DEPARTMENT OF ENERGY

National Nuclear Security Administration

Final Site-Wide Environmental Impact Statement for Continued Operation of Lawrence Livermore National Laboratory and Supplemental Stockpile Stewardship and Management Programmatic Environmental Impact Statement

AGENCY: National Nuclear Security Administration, Department of Energy.

ACTION: Notice of availability.

SUMMARY: The Livermore Site Office of the Department of Energy's (DOE) National Nuclear Security Administration (NNSA) announces the availability of the Final Site-wide Environmental Impact Statement for Continued Operation of Lawrence Livermore National Laboratory (DOE/EIS-0348) and Supplemental Stockpile Stewardship and Management Programmatic Environmental Impact Statement (DOE/EIS-0236-S3) (LLNL SW/SPEIS). The Final LLNL SW/SPEIS was prepared in accordance with the Council on Environmental Quality's National Environmental Policy Act (NEPA) Implementing Regulations (40 CFR Parts 1500-1508) and the DOE's NEPA Implementing Procedures (10 CFR Part 1021). The Final LLNL SW/SPEIS analyzes the potential environmental impacts associated with continuing current Lawrence Livermore National Laboratory (LLNL) operations and foreseeable new or modified operations and facilities. The LLNL SW/SWPEIS also evaluates the potential environmental impacts of experiments at the National Ignition Facility (NIF) using plutonium, other fissile materials, fissionable materials, and lithium hydride. The Final LLNL SW/SPEIS analyses a Proposed Action and two alternatives, the No Action Alternative and a Reduced Operation Alternative. The No Action Alternative would continue operation of current LLNL programs in support of assigned missions. The Proposed Action includes operations discussed under the No Action Alternative and new or expanded operations in support of reasonably foreseeable mission requirements. The Reduced Operation Alternative consists of a reduction of activities compared to the No Action Alternative. The NNSA has identified the Proposed Action as the preferred alternative in the Final LLNL SW/SPEIS.

DATES: The NNSA intends to issue a Record of Decision on the Final LLNL SW/SPEIS no sooner than 30 days after the Environmental Protection Agency (EPA) publishes a notice of filing of the Final LLNL SW/SPEIS in the Federal Register.

ADDRESSES: The Final LLNL SW/SPEIS is available on the LLNL Environmental Community Relations Web site http://www-envirinfo.llnl.gov/. For additional information or a copy of the Final LLNL SW/SPEIS or its Summary contact: Mr. Thomas Grim, Document Manager, National Nuclear Security Administration, Livermore Site Office, L-293, 7000 East Avenue, Livermore, CA 94550-9234; phone (925) 422-0704 or toll free 1-877-388-4930; or by e-mail (tom.grim@doeal.gov). The Final LLNL SW/SPEIS is also available at the following locations: the DOE Public Reading Room in Room 1E-190, 1000 Independence Ave, SW., Washington, DC 20585, (202) 586-3142; the LLNL Public Reading Room in the LLNL Visitors Center in Building 6525 located at the East Gate Entrance off of Greenville Road, Livermore, California, (925) 424-4026; the Livermore Public Library at 1000 South Livermore Avenue, Livermore California, (925) 373-5500; and the Tracy Public Library at 20 East Eaton Avenue, Tracy, CA, (209) 831-4250.

For general information on the DOE NEPA process, please contact: Ms. Carol M. Borgstrom, Director, Office of NEPA Policy and Compliance, EH-42, U.S. DOE, 1000 Independence Avenue, SW., Washington, DC 20585, telephone 202-586-4600, or leave a message at 1-800-472-2756.

SUPPLEMENTARY INFORMATION: The continued operation of LLNL is critical to NNSA's Stockpile Stewardship Program and to preventing the spread and use of nuclear weapons worldwide. LLNL maintains core competencies in activities associated with research and development, design, and surveillance of nuclear weapons, as well as the assessment and certification of their safety and reliability. LLNL also supports other DOE programs and Federal agencies such as the Department of Defense, the Nuclear Regulatory Commission, EPA, and the Department of Homeland Security. The Final LLNL SW/SPEIS analyzes the environmental impacts of these operations.

LLNL was founded in 1952 as the second nuclear weapons design laboratory in order to promote innovation in the design of our nation's nuclear stockpile. LLNL consists of two sites: the Livermore Site located in Livermore, California (Alameda County); and Site 300, an experimental test site located near Tracy, California, (San Joaquin and Alameda counties). The Livermore Site is the primary site and is located approximately 40 miles east of San Francisco in the Livermore Valley on the east side of the city of Livermore. Site 300 is located 15 miles southeast of the city of Livermore between Livermore and Tracy.

The alternatives evaluated in the Final LLNL SW/SPEIS represent a range of operation from the minimum level that maintains core capabilities (Reduced Operation Alternative) to the highest reasonable activity levels that could be supported by current facilities, and the potential expansion and construction of new facilities for identified future actions (Proposed Action). The No Action Alternative would continue operation of current LLNL programs in support of assigned missions and includes approved interim actions; facility construction, expansion, or modification; and decontamination and decommissioning projects for which NEPA analysis and documentation already exist. The Proposed Action includes operations discussed under the No Action Alternative and the construction of new facilities and expanded operations in support of future mission requirements. Specifically, the Proposed Action includes increasing the administrative and material-at-risk limits for plutonium and tritium, and the use of nuclear materials (plutonium, other fissile materials, fissionable materials, and lithium hydride) at the National Ignition Facility. The Reduced Operation Alternative represents a thirty percent reduction of the Stockpile Stewardship Program compared to the No Action Alternative. The Reduced Operation Alternative maintains full operational readiness for NNSA facilities and operations, but does not represent the level of operation required to fulfill the missions of the Stockpile Stewardship Program assigned to LLNL. The NNSA has identified the Proposed Action as its preferred alternative in the Final LLNL SW/SPEIS.

The Final LLNL SW/SPEIS contains responses to comments received during the public comment period, as well as changes that were made to the Draft LLNL SW/SPEIS in response to these comments. The NNSA will consider the analyses in the Final LLNL SW/SPEIS, along with other information, in making its decision regarding future operations at LLNL.

Issued in Washington, DC, this 10th day of March 2005.
Linton F. Brooks,
Administrator, National Nuclear Security Administration.

[FR Doc. 05-8600 Filed 4-28-05; 8:45 am]

BILLING CODE 6450-01-P